Proclamation 9115 of April 30, 2014

Law Day, U.S.A., 2014

By the President of the United States of America

A Proclamation

More than two centuries ago, patriots battled to release America from the grip of tyranny. As these brave citizens defended their right to shape their own destiny, our Founders created a government of, by, and for the people—rooted in the belief that just power derives from the consent of the governed. It is a system that can only function through the rule of law.

This Law Day pays special tribute to the right to vote, the cornerstone of democracy. Many Americans won the franchise after generations of struggle, while others gave their lives so their children and grandchildren might one day enjoy what should have been their birthright. Thanks to women who picketed the White House and activists who marched on the National Mall, our laws finally recognized a truth that had always been self-evident—that every citizen should have a voice in our democracy. Over the centuries, we have made legal changes that eliminated formal voting restrictions based on wealth, race, and sex and that extended the right to vote to younger adults. Today, our laws continue to protect this fundamental right, laws like the Voting Rights Act, the National Voter Registration Act, the Help America Vote Act, and the Uniformed and Overseas Citizens Absentee Voting Act.

Despite this hard-fought progress, barriers to voting still exist, and the right to vote faces a new wave of threats. In some States, women may be turned away from the polls because they are registered under their maiden name; in others, seniors who have been voting for decades may suddenly be told they cannot vote because they do not have a particular form of identification. As we reflect on the trials and triumphs of generations past, we must rededicate ourselves to preserving those victories in our time. Earlier this year, a bipartisan commission I appointed recommended a series of common-sense reforms to protect the right to vote, curb the potential for fraud, and ensure no one has to wait more than a half hour to cast a ballot. States and local election officials should implement these recommendations. In addition, the Congress should demonstrate its commitment to our fundamental right by updating the Voting Rights Act.

Let us mark Law Day by recognizing the institutions that uphold the rule of law in America. Let us vow to keep safe our founding creed. And let us remember that opportunity requires justice, and justice requires the right to vote.

NOW, THEREFORE, I, BARACK OBAMA, President of the United States of America, in accordance with Public Law 87-20, as amended, do hereby proclaim May 1, 2014, as Law Day, U.S.A. I call upon all Americans to acknowledge the importance of our Nation's legal and judicial systems with appropriate ceremonies and activities, and to display the flag of the United States in support of this national observance.

IN WITNESS WHEREOF, I have hereunto set my hand this thirtieth day of April, in the year of our Lord two thousand fourteen, and of the Independence of the United States of America the two hundred and thirty-eighth.

[FR Doc. 2014-10457

Filed 5-5-14; 8:45 am]

Billing code 3295-F4